DEPARTMENT OF AGRICULTURE

Animal and Plant Health Inspection Service

7 CFR Part 301

[Docket No. APHIS-2012-0079]

Golden Nematode; Removal of Regulated Areas in Livingston and Steuben Counties, NY

Correction

In rule document 2013-206 appearing on pages 1713-1715 in the issue of January 9, 2013, make the following corrections:

(1) On page 1713, in the second column, in the last line, “§ 301.852(a)” should read “§ 301.85-2(a)”.

§ 301.85-2a [Corrected]

(2) On page 1714, beginning in the second column, § 301.85-2a is corrected to read as set forth below:

§ 301.85-2a Regulated areas; suppressive and generally infested areas.

* * * * *

New York

(1) Generally infested area:

* * * * *

Livingston County. (A) That portion of land in the town of Avon bounded as follows: Beginning at a point marked by latitude/longitude coordinates 42°90′56″, -77°68′72″; then east along a farm road to coordinates 42°90′54″, -77°68′50″; then east along a farm road to coordinates 42°90′60″, -77°68′25″; then north along a drainage ditch to coordinates 42°90′69″, -77°68′23″; then north along a drainage ditch to coordinates 42°90′79″, -77°68′47″; then north to coordinates 42°91′03″, -77°68′44″; then west along the south side of a farm road to coordinates 42°91′03″, -77°68′57″; then south along a farm road to point of beginning at coordinates 42°90′56″, -77°68′72″;

(B) The area known as “South Lima North Muck” in the town of Lima bounded as follows: Beginning at a point along the north side of South Lima Road marked by latitude/longitude coordinates 42°85′53″, -77°67′38″; then north along a farm road to coordinates 42°85′88″, -77°67′12″; then east along a farm road and along a forested edge to coordinates 42°85′94.7″, -77°66′60.1″; then north along an irrigation ditch to coordinates 42°86′10.9″, -77°66′59.0″; then east along a forested edge to coordinates 42°86′11.2″, -77°66′47.7″; then north along a farm road to coordinates 42°87′35″, -77°66′51″; then west along a farm road to coordinates 42°87′35″, -77°66′84″; then south along Little Conesus Creek to coordinates 42°87′12.56″, -77°66′93.38″; then west to include a portion of an access road and gravel clean off site to coordinates 42°87′12.60″, -77°67′05.50″; then south to coordinates 42°87′11.19″, -77°67′04.43″; then east to coordinates 42°87′11.05″, -77°66′99.68″; then north to coordinates 42°87′12.03″, -77°66′98.99″; then east to coordinates 42°87′11.97″, -77°66′93.67″; then south along Little Conesus Creek to coordinates 42°86′88″, -77°67′02″; then west along a farm road to coordinates 42°86′88″, -77°67′13″; then south along a farm road to coordinates 42°86′59″, -77°67′33″; then south along a farm road to coordinates 42°86′42″, -77°67′40″; then west along a farm road to coordinates 42°86′43″, -77°67′61″; then south along a farm road to coordinates 42°85′67″, -77°68′02″; then east to coordinates 42°85′64″, -77°67′41″, then south along Little Conesus Creek to coordinates 42°85′53″, -77°67′45″; then east to point of beginning at coordinates 42°85′53″, -77°67′38″;

(C) The area known as “South Lima South Muck” in the town of Lima bounded as follows: Beginning at a point along the south side of South Lima Road marked by latitude/longitude coordinates 42°85′52″, -77°67′74″; then south to coordinates 42°85′48″, -77°67′74″; then east to coordinates 42°85′48″, -77°67′67″; then south to coordinates 42°85′09″, -77°67′70″; then south to coordinates 42°84′47″, -77°67′72″; then east to coordinates 42°84′46″, -77°67′39″; then north along a farm road to coordinates 42°84′77″, -77°67′28″; then east along a farm road to coordinates 42°84′88″, -77°67′00″; then north along a farm road to coordinates 42°85′12″, -77°67′01″; then west along a farm road to coordinates 42°85′12″, -77°67′20″; then north along a farm road to coordinates 42°85′16″, -77°67′20″; then west along a farm road to coordinates 42°85′18″, -77°67′40″; then north to coordinates 42°85′41″, -77°67′40″; then west to coordinates 42°85′45″, -77°67′66″; then north to coordinates 42°85′52″, -77°67′65″; then west to point of beginning at coordinates 42°85′52″, -77°67′74″; and

(D) The area known as “Wiggle Muck” in the town of Livonia bounded as follows: Beginning at a point along the west side of Plank Road (State Highway 15A) marked by latitude/longitude coordinates 42°84′89.0″, -77°61′36.7″; then west to coordinates 42°84′91″, -77°62′03″; then south along a farm road to coordinates 42°84′68″, -77°61′92″; then south along a farm road to coordinates 42°84′19″, -77°61′88″; then east to coordinates 42°84′22″, -77°61′61″; then north along a farm road to coordinates 42°84′87.2″, -77°61′68.1″; then east to the west side of Plank Road marked by coordinates 42°84′87.2″, -77°61′35.9″; then north to point of beginning at coordinates 42°84′89.0″, -77°61′36.7″.

* * * * *

Steuben County. (A) The towns of Prattsburg and Wheeler;

(B) The area known as “Arkport Muck North” located in the town of Dansville and bounded as follows: Beginning at a point along the west bank of the Marsh Ditch that intersects a farm road marked by latitude/longitude coordinates 42°42′30”, -77°71′21″; then north along the Marsh Ditch to coordinates 42°42′96.1″, -77°71′54.0″; then west along a 45-foot wide hedgerow to coordinates 42°42′83.1″, -77°72′00.3″; then south through woods, along a farm road, and field border to coordinates 42°42′55″, -77°71′89″; then east along a tree line to coordinates 42°42′54″, -77°71′80″; then south along a tree line to coordinates 42°42′30″, -77°71′57″; then east to point of beginning at coordinates 42°42′30″, -77°71′21″;

(C) The area known as “Arkport Muck South” located in the town of Dansville and bounded as follows: Beginning at a point along the west side of New York Route 36 marked by latitude/longitude coordinates 42°40′54.5″, -77°69′79.0″; then north along the west side of New York Route 36 to coordinates 42°41′45″, -77°69′99″; then west along a farm road to coordinates 42°41′45″, -77°70′29″; then north along a farm road to coordinates 42°41′60″, -77°70′36″; then west along a farm road to coordinates 42°41′62″, -77°70′83″; then north along the Marsh Ditch to coordinates 42°41′86″, -77°70′97″; then west along a farm road to coordinates 42°41′81″, -77°71′21″; then south along a farm road to coordinates 42°41′76.0″, -77°71′18.0″; then west along a fallow strip to coordinates 42°41′75.6″, -77°71′40.2″; then south along a fallow strip to coordinates 42°41′61.3″, -77°71′42.0″; then west along a farm road to coordinates 42°41′60.4″, -77°71′68.1″; then south along a farm road on the east side of the Conrail right-of-way (Erie Lackawanna Railroad) to coordinates 42°40′50″, -77°71′07″; then east along a farm road to coordinates 42°40′49″, -77°70′38″; then north along an irrigation ditch to coordinates 42°40′69.9″, -77°70′46.8″; then east along an irrigation ditch to coordinates 42°40′69.7″, -77°70′34.3″; then south along the Marsh Ditch to coordinates 42°40′55.0″, -77°70′26.5″; then east to point of beginning at coordinates 42°40′54.5″, -77°69′79.0″;

(D) The property in the town of Cohocton (formerly known as the “Werthwhile Farm”) bounded as follows: Beginning at a point along the north side of Brown Hill Road marked by latitude/longitude coordinates 42°45′03.5″, -77°53′56.2″; then north along a forest edge to coordinates 42°45′27.5″, -77°53′55.7″; then west along a forest edge to coordinates 42°45′27″, -77°53′72.9″; then north along a forest edge to coordinates 42°45′47.6″, -77°53′72.2″; then west along a forest edge and a hedgerow to the east side of Rex Road to coordinates 42°45′48.7″, -77°54′40.7″; then southwest along the east side of Rex Road to coordinates 42°45′39.4″, -77°54′53.6″; then south along a hedgerow and a forest edge to coordinates 42°45′05.7″, -77°54′54.7″; then east along a hedgerow and the north side of Brown Hill Road to point of beginning at coordinates 42°45′03.5″, -77°53′56.2″; and

(E) The property located in the town of Fremont that is bounded as follows: Beginning at a point on Babcock Road that intersects a farm road marked by latitude/longitude coordinates 42°43′68.06″, -77°57′51.11″; then west along the farm road to coordinates 42°43′67.22″, -77°57′80.56″; then south to coordinates 42°43′60.00″, -77°57′80.28″; then west to coordinates 42°43′59.44″, -77°58′07.50″; then south to coordinates 42°43′35.28″, -77°58′06.39″; then east to coordinates 42°43′33.06″, -77°57′78.89″; then south to coordinates 42°43′18.61″, -77°57′77.78″; then east to coordinates 42°43′23.06″, -77°57′71.39″; then north to coordinates 42°43′30.28″, -77°57′63.89″; then east to coordinates 42°43′30.28″, -77°57′61.39″; then north to coordinates 42°43′49.44″, -77°57′56.94″; then east to coordinates 42°43′49.17″, -77°57′49.72″; then north to the point of beginning at coordinates 42°43′68.06″, -77°57′51.11″.

* * * * *

[FR Doc. C1-2013-00206 Filed 1-16-13; 8:45 am]

BILLING CODE 1505-01-D